DEPARTMENT OF THE INTERIOR

National Park Service

[NPS-WASO-NRNHL-DTS#-27048; PPWOCRADI0, PCU00RP14.R50000]

National Register of Historic Places; Notification of Pending Nominations and Related Actions

AGENCY: National Park Service, Interior.

ACTION: Notice.

SUMMARY: The National Park Service is soliciting comments on the significance of properties nominated before November 24, 2018, for listing or related actions in the National Register of Historic Places.

DATES: Comments should be submitted by December 26, 2018.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before November 24, 2018. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

CALIFORNIA

Los Angeles County

Filipino Christian Church (Asian Americans in Los Angeles, 1850-1980 MPS), 301 N Union Ave., Los Angeles, MP100003291

WISCONSIN

Sheboygan County

SELAH CHAMBERLAIN (bulk carrier) Shipwreck (Great Lakes Shipwreck Sites of Wisconsin MPS), 2 mi. NE of Sheboygan Pt. in Lake Michigan, Sheboygan, MP100003288

Additional documentation has been received for the following resource:

IOWA

Webster County

Fort Dodge Downtown Historic District, 1st Ave. N, Central Ave., and 1st Ave. S from 3rd St. on West to 12th St. on East, Fort Dodge, AD10000918

Authority: Section 60.13 of 36 CFR part 60.

Dated: November 27, 2018.
Christopher Hetzel,
Acting Chief, National Register of Historic Places/National Historic Landmarks Program.

[FR Doc. 2018-26647 Filed 12-7-18; 8:45 am]

BILLING CODE 4312-52-P